DEPARTMENT OF STATE

[Public Notice: 5563]

U.S. Department of State Advisory Committee on Private International Law: Notice of Hearing

The U.S. Department of State Advisory Committee on Private International Law will hold a meeting on October 19th and 20th, 2006 at the Georgetown University Law Center, 600 New Jersey Avenue, NW., Washington, DC. Thursday's meeting will be held on the 12th floor of the Gewirz Building and Friday's meeting will be in Room 200 of the McDonough Building. The meetings will start both days at 9 a.m. and will end on Thursday, October 19th at 5 p.m. and on Friday, October 20th at 3 p.m. The meetings will discuss the general “state of the world” developments in the areas of investment securities law, computer-age revolution, international family law and the emerging family process, the process of new convention on the child support, judicial assistance and arbitration, e-apostilles and reports on other Private International Law projects.

The meeting is open to the public up to the capacity of the meeting room. Interested persons are invited to attend and to express their views. Persons who wish to have their view considered are encouraged, but not required, to submit written comments in advance. Comments should be sent electronically to SmeltzerTK@State.gov. Anyone planning to attend this meeting should provide their name, affiliation and contact information in advance to Trish Smeltzer or Renetta Davis at 202-776-8420 or by e-mail to DavisRX@state.gov.

Dated: September 26, 2006.
Harold S. Burman,
Executive Director, Department of State.

[FR Doc. E6-16301 Filed 10-2-06; 8:45 am]

BILLING CODE 4710-08-P